DEPARTMENT OF AGRICULTURE

Natural Resources Conservation Service

Rockhouse Creek Watershed, Leslie County, KY

AGENCY: Natural Resources Conservation Service.

ACTION: Notice of Availability of Record of Decision.

SUMMARY: Mr. Jacob Kuhn, responsible Federal official for the project administered under the provision of Public Law 83-566, 16 U.S.C. 1001-1008, in the State of Kentucky, is hereby providing notification that a record of decision (ROD) to proceed with the installation of the Rockhouse Creek Watershed project is now available. Single copies of the record of decision may be obtained at the address below. For further information contact: Jacob Kuhn, Acting State Conservationist, Natural Resources Conservation Service, Rockhouse Creek Project, Suite 210, 771 Corporate Drive, Lexington, KY 40503, #859-224-7350.

Dated: October 27, 2006.
Jacob Kuhn,
Acting State Conservationist.

This activity is listed in the Catalog of Federal Domestic Assistance under No. 10.904 Watershed Protection and Flood Prevention, and is subject to the provision of Executive Order 12372, which requires intergovernmental consultation with State and local officials.

[FR Doc. E6-18893 Filed 11-7-06; 8:45 am]

BILLING CODE 3410-16-P